DEPARTMENT OF THE INTERIOR

Fish and Wildlife Service

Safe Harbor Agreement and Receipt of Application for an Enhancement of Survival Permit Associated With the Restoration of Habitat and Reintroduction of Utah Prairie Dogs on a Ranch in Garfield County, UT

AGENCY: Fish and Wildlife Service, Interior.

ACTION: Notice of availability.

SUMMARY: Mr. Allen Henrie (Applicant) has applied to the Fish and Wildlife Service (Service) for an Enhancement of Survival Permit (ESP) for the Utah prairie dog pursuant to section 10(a)1(A) of the Endangered Species Act of 1973 (U.S.C. 1531 et seq.), as amended (Act). This permit application includes a Safe Harbor Agreement (SHA) between the Applicant, the Utah Division of Wildlife Resources (UDWR), and the Service. The proposed SHA and permit would become effective upon signature of the SHA and issuance of the permit and would remain in effect for 40 years. We have made the determination that the proposed activities described in the application and SHA will improve prairie dog habitat and potentially establish a colony of prairie dogs on private land and that, therefore, it is categorically excluded under 516 DM 8.5 C. (1) of the Department of the Interior's Manual. This notice is provided pursuant to the National Environmental Policy Act (NEPA) and section 10 of the Act and the Service's Safe Harbor Policy (64 FR 32717). The Service requests information, views, and opinions from the public via this notice. Further, the Service is soliciting information regarding the adequacy of the SHA as measured against the Service's Safe Harbor Policy and the regulations that implement it.

DATES: Written comments on the permit application must be received on or before July 18, 2005.

ADDRESSES: Persons wishing to review the SHA and the ESP application may obtain a copy by writing the Service's Mountain-Prairie Regional Office, Denver, Colorado. Documents also will be available for public inspection during normal business hours at the Regional Office, 134 Union Boulevard, Denver Colorado 80228-1807, or the Utah Field Office, U.S. Fish and Wildlife Service, 2369 West Orton Circle, West Valley City, Utah 84119. Written data or comments concerning the SHA or ESP application should be submitted to the Regional Office and must be in writing to be processed. Comments must be submitted in writing to be adequately considered in the Service's decision-making process. Please reference permit number TE098809-0 in your comments, or in the request for the documents discussed herein.

FOR FURTHER INFORMATION CONTACT: Pat Mehlhop, Regional Safe Harbor Coordinator (see ADDRESSES), telephone, 303-236-4215, or Henry Maddux, Utah Field Supervisor (see ADDRESSES), telephone 801-975-3330.

SUPPLEMENTARY INFORMATION: The Utah prairie dog (UPD) is the westernmost member of the genus Cynomys. The species' range, which is limited to the southwestern quarter of Utah, is the most restricted of all prairie dog species in the United States. Distribution of the UPD has been greatly reduced due to disease (plague), poisoning, drought, and human-related habitat alteration. Protection of this species and enhancement of its habitat on private land will benefit recovery efforts.

The primary objective of this SHA is to encourage voluntary conservation measures and translocation efforts to benefit the species and the landowner. Through this agreement, the landowner will receive relief from any additional section 9 liability under the Act beyond that which exists at the time the agreement is signed (“regulatory baseline”). To benefit the UPD, foraging and visual surveillance habitat will be enhanced by thinning decadent stands of brush and by increasing forage quantity and quality using mechanical and herbicidal treatments and reseeding native grasses and forbs. In cooperation with the UDWR, UPDs will be released on the property after the habitat improvements have been completed. The habitat improvements will be maintained throughout the term of the permit through managed grazing, additional brush treatments if necessary, and to some degree by the UPDs themselves. The Cooperator will receive an ESP that authorizes implementation of the conservation actions and other provisions of this Agreement and authorizes incidental take and limited direct take of the covered species above the Cooperator's baseline responsibilities, as defined in the SHA.

The Service has evaluated the impacts of this action under NEPA and determined that it warrants categorical exclusion as described in 516 DM 8.5 C.(1). The Service will evaluate whether the issuance of the ESP complies with section 7 of the Act by conducting an intra-Service section 7 consultation on the issuance of the permit. The result of the biological opinion, in combination with the above finding and any public comments will be used in the final analysis to determine whether or not to issue the requested ESP, pursuant to the regulations that guide issuance of the type of permit.

Authority: The authority for this action is the Endangered Species Act of 1973, as amended (16 U.S.C. 1531 et seq.) and the National Environmental Policy Act of 1969, as amended (42 U.S.C. 4321 et seq.).

Dated: March 25, 2005.
Elliott Sutta,
Acting Regional Director, Denver, Colorado.

[FR Doc. 05-7676 Filed 4-15-05; 8:45 am]

BILLING CODE 4310-55-P